DEPARTMENT OF DEFENSE

Office of the Secretary

Submission for OMB Review; Comment Request

Correction

In notice document 04-27758 appearing on page 75935 in the issue of Monday, December 20, 2004, make the following correction:

On page 75935, in the DATES section, in the second line, “June 19, 2005” should read “January 19, 2005.”

[FR Doc. C4-27758 Filed 1-19-05; 8:45 am]

BILLING CODE 1505-01-D